DEPARTMENT OF TRANSPORTATION

Federal Aviation Administration

[Summary Notice No. PE-2004-78]

Petitions for Exemption; Dispositions of Petitions Issued

AGENCY: Federal Aviation Administration (FAA), DOT.

ACTION: Notice; correction.

SUMMARY: The FAA published a notice in the Federal Register on October 18, 2004, containing a summary of certain dispositions of certain petitions previously received. This document makes a correction to a docket number assigned to Helicorp, Inc.

FOR FURTHER INFORMATION CONTACT: Timothy Adams, telephone (202) 267-8033.

EFFECTIVE DATE: This correction is effective on October 28, 2004.

Correction

In the notice, FR Doc. 04-23256, published on October 18, 2004 (69 FR 61431) on page 61432, in the third column, on the first line, correct the Docket Number from “FAA-2002-17147” to read “FAA-2002-14147.”

Issued in Washington, DC on October 22, 2004.
Anthony F. Fazio,
Director, Office of Rulemaking.

[FR Doc. 04-24142 Filed 10-27-04; 8:45 am]

BILLING CODE 4910-13-P